POSTAL REGULATORY COMMISSION

39 CFR Part 3040

[Docket No. RM2020-8]

Update to Competitive Product List

AGENCY: Postal Regulatory Commission.

ACTION: Direct final rule.

SUMMARY: The Commission is announcing an update to the competitive product list. This action reflects a publication policy adopted by Commission rules. The referenced policy assumes periodic updates. The updates are identified in the body of this document. The competitive product list, which is re-published in its entirety, includes these updates.

DATES: This rule is effective December 27, 2021, without further action, unless adverse comment is received by December 10, 2021. If adverse comment is received, the Commission will publish a timely withdrawal of the rule in the Federal Register.

ADDRESSES: For additional information, this document can be accessed electronically through the Commission's website at https://www.prc.gov.

FOR FURTHER INFORMATION CONTACT: David A. Trissell, General Counsel, at 202-789-6800.

SUPPLEMENTARY INFORMATION:

I. Introduction

II. Commission Process

III. Authorization

IV. Modifications

V. Ordering Paragraphs

I. Introduction

Pursuant to 39 U.S.C. 3642(d)(2) and 39 CFR 3040.103, the Commission provides a Notice of Update to Competitive Product List by listing all necessary modifications to the competitive product list.

II. Commission Process

Pursuant to 39 CFR part 3040, the Commission maintains a Mail Classification Schedule (MCS) that includes rates, fees, and product descriptions for each market dominant and competitive product, as well as product lists that categorize Postal Service products as either market dominant or competitive. See generally 39 CFR part 3040. The product lists are published in the Code of Federal Regulations as “Appendix A to Subpart A of Part 3040—Market Dominant Product List” and “Appendix B to Subpart A of Part 3040—Competitive Product List” pursuant to 39 U.S.C. 3642(d)(2). See 39 U.S.C. 3642(d)(2). Both the MCS and its product lists are updated by the Commission on its website on a quarterly basis.¹ In addition, these quarterly updates to the product lists are also published in the Federal Register pursuant to 39 CFR 3040.103. See 39 CFR 3040.103.

¹ See https://www.prc.gov/mail-classification-schedule in the Current MCS section.

III. Authorization

Pursuant to 39 CFR 3040.103(d)(1), this Notice of Update to Product Lists identifies any modifications made to the market dominant or competitive product list, including product additions, removals, and transfers.² Pursuant to 39 CFR 3040.103(d)(2), the modifications identified in this document result from the Commission's most recent MCS update posted on the Commission's website on October 5, 2021, and supersede all previous product lists.³

² 39 CFR 3040.103(d)(1). More detailed information (e.g., Docket Nos., Order Nos., effective dates, and extensions) for each market dominant and competitive product can be found in the MCS, including the “Revision History” section. See, e.g., file “MCSRedline03312020.docx,” available at https://www.prc.gov/mail-classification-schedule.

³ Previous versions of the MCS and its product lists can be found on the Commission's website, available at https://www.prc.gov/mail-classification-schedule in the MCS Archives section.

IV. Modifications

The following list of products is being added to “Appendix B to Subpart A of Part 3040—Competitive Product List”:

1. First-Class Package Service Contract 115

2. First-Class Package Service Contract 116

3. First-Class Package Service Contract 117

4. Parcel Select Contract 47

5. Priority Mail & First-Class Package Service Contract 191

6. Priority Mail & First-Class Package Service Contract 192

7. Priority Mail & First-Class Package Service Contract 193

8. Priority Mail & First-Class Package Service Contract 194

9. Priority Mail & First-Class Package Service Contract 195

10. Priority Mail & First-Class Package Service Contract 196

11. Priority Mail & First-Class Package Service Contract 197

12. Priority Mail & First-Class Package Service Contract 198

13. Priority Mail & First-Class Package Service Contract 199

14. Priority Mail & First-Class Package Service Contract 200

15. Priority Mail & First-Class Package Service Contract 201

16. Priority Mail Contract 691

17. Priority Mail Contract 692

18. Priority Mail Contract 693

19. Priority Mail Contract 694

20. Priority Mail Contract 695

21. Priority Mail Contract 696

22. Priority Mail Contract 697

23. Priority Mail Contract 698

24. Priority Mail Contract 699

25. Priority Mail Contract 700

26. Priority Mail Contract 701

27. Priority Mail Contract 702

28. Priority Mail Contract 703

29. Priority Mail Contract 704

30. Priority Mail Contract 705

31. Priority Mail Contract 706

32. Priority Mail Contract 707

33. Priority Mail Contract 708

34. Priority Mail Contract 709

35. Priority Mail Contract 710

36. Priority Mail Contract 711

37. Priority Mail Contract 712

38. Priority Mail Contract 713

39. Priority Mail Contract 714

40. Priority Mail Contract 715

41. Priority Mail Contract 716

42. Priority Mail Contract 717

43. Priority Mail Contract 718

44. Priority Mail Contract 719

45. Priority Mail Contract 720

46. Priority Mail Express Contract 87

47. Priority Mail Express Contract 88

48. Priority Mail Express Contract 89

49. Priority Mail Express Contract 90

50. Priority Mail Express, Priority Mail & First-Class Package Service Contract 74

51. Priority Mail Express, Priority Mail & First-Class Package Service Contract 75

52. Priority Mail Express, Priority Mail & First-Class Package Service Contract 76

53. Priority Mail Express, Priority Mail, First-Class Package Service & Parcel Select Contract 9

54. Priority Mail Express International, Priority Mail International, First-Class Package International Service & Commercial ePacket Contract 10

The following list of products is being removed from “Appendix B to Subpart A of Part 3040—Competitive Product List”:

1. First-Class Package Service Contract 75

2. First-Class Package Service Contract 85

3. First-Class Package Service Contract 92

4. First-Class Package Service Contract 93

5. First-Class Package Service Contract 102

6. First-Class Package Service Contract 111

7. First-Class Package Service Contract 113

8. International Priority Airmail Contract 1

9. International Priority Airmail, Commercial ePacket, Priority Mail Express International, Priority Mail International & First-Class Package International Service Contract 3

10. International Priority Airmail, Commercial ePacket, Priority Mail Express International, Priority Mail International, & First-Class Package International Service Contract 7

11. International Priority Airmail, Commercial ePacket, Priority Mail Express International, Priority Mail International & First-Class Package International Service Contract 10

12. Parcel Return Service Contract 15

13. Parcel Select & Parcel Return Service Contract 8

14. Parcel Select & Parcel Return Service Contract 12

15. Parcel Select Contract 20

16. Parcel Select Contract 36

17. Priority Mail & First-Class Package Service Contract 61

18. Priority Mail & First-Class Package Service Contract 72

19. Priority Mail & First-Class Package Service Contract 73

20. Priority Mail & First-Class Package Service Contract 74

21. Priority Mail & First-Class Package Service Contract 80

22. Priority Mail & First-Class Package Service Contract 81

23. Priority Mail & First-Class Package Service Contract 85

24. Priority Mail & First-Class Package Service Contract 92

25. Priority Mail & First-Class Package Service Contract 93

26. Priority Mail & First-Class Package Service Contract 103

27. Priority Mail & First-Class Package Service Contract 111

28. Priority Mail & First-Class Package Service Contract 119

29. Priority Mail & First-Class Package Service Contract 120

30. Priority Mail & First-Class Package Service Contract 125

31. Priority Mail & First-Class Package Service Contract 131

32. Priority Mail & First-Class Package Service Contract 138

33. Priority Mail & First-Class Package Service Contract 140

34. Priority Mail & First-Class Package Service Contract 145

35. Priority Mail & First-Class Package Service Contract 147

36. Priority Mail & First-Class Package Service Contract 157

37. Priority Mail & First-Class Package Service Contract 160

38. Priority Mail & First-Class Package Service Contract 161

39. Priority Mail & First-Class Package Service Contract 165

40. Priority Mail & First-Class Package Service Contract 167

41. Priority Mail & First-Class Package Service Contract 171

42. Priority Mail & First-Class Package Service Contract 173

43. Priority Mail & First-Class Package Service Contract 181

44. Priority Mail & Parcel Select Contract 3

45. Priority Mail Contract 357

46. Priority Mail Contract 383

47. Priority Mail Contract 389

48. Priority Mail Contract 395

49. Priority Mail Contract 400

50. Priority Mail Contract 401

51. Priority Mail Contract 403

52. Priority Mail Contract 416

53. Priority Mail Contract 421

54. Priority Mail Contract 424

55. Priority Mail Contract 427

56. Priority Mail Contract 428

57. Priority Mail Contract 431

58. Priority Mail Contract 437

59. Priority Mail Contract 439

60. Priority Mail Contract 440

61. Priority Mail Contract 444

62. Priority Mail Contract 445

63. Priority Mail Contract 450

64. Priority Mail Contract 451

65. Priority Mail Contract 458

66. Priority Mail Contract 462

67. Priority Mail Contract 464

68. Priority Mail Contract 465

69. Priority Mail Contract 502

70. Priority Mail Contract 510

71. Priority Mail Contract 521

72. Priority Mail Contract 522

73. Priority Mail Contract 525

74. Priority Mail Contract 526

75. Priority Mail Contract 532

76. Priority Mail Contract 538

77. Priority Mail Contract 560

78. Priority Mail Contract 563

79. Priority Mail Contract 570

80. Priority Mail Contract 572

81. Priority Mail Contract 574

82. Priority Mail Contract 592

83. Priority Mail Contract 593

84. Priority Mail Contract 597

85. Priority Mail Contract 598

86. Priority Mail Contract 600

87. Priority Mail Contract 602

88. Priority Mail Contract 603

89. Priority Mail Contract 613

90. Priority Mail Contract 616

91. Priority Mail Contract 617

92. Priority Mail Contract 619

93. Priority Mail Contract 622

94. Priority Mail Contract 623

95. Priority Mail Contract 626

96. Priority Mail Contract 629

97. Priority Mail Contract 632

98. Priority Mail Contract 633

99. Priority Mail Contract 637

100. Priority Mail Contract 638

101. Priority Mail Contract 639

102. Priority Mail Contract 643

103. Priority Mail Contract 644

104. Priority Mail Contract 646

105. Priority Mail Contract 648

106. Priority Mail Contract 649

107. Priority Mail Contract 651

108. Priority Mail Contract 652

109. Priority Mail Contract 653

110. Priority Mail Contract 654

111. Priority Mail Contract 659

112. Priority Mail Contract 662

113. Priority Mail Contract 667

114. Priority Mail Contract 668

115. Priority Mail Contract 673

116. Priority Mail Contract 676

117. Priority Mail Contract 678

118. Priority Mail Contract 679

119. Priority Mail Contract 680

120. Priority Mail Express & First-Class Package Service Contract 1

121. Priority Mail Express & First-Class Package Service Contract 3

122. Priority Mail Express & Priority Mail Contract 13

123. Priority Mail Express & Priority Mail Contract 59

124. Priority Mail Express & Priority Mail Contract 62

125. Priority Mail Express & Priority Mail Contract 67

126. Priority Mail Express & Priority Mail Contract 75

127. Priority Mail Express & Priority Mail Contract 79

128. Priority Mail Express & Priority Mail Contract 83

129. Priority Mail Express & Priority Mail Contract 86

130. Priority Mail Express & Priority Mail Contract 105

131. Priority Mail Express & Priority Mail Contract 107

132. Priority Mail Express & Priority Mail Contract 108

133. Priority Mail Express & Priority Mail Contract 112

134. Priority Mail Express & Priority Mail Contract 113

135. Priority Mail Express & Priority Mail Contract 117

136. Priority Mail Express Contract 54

137. Priority Mail Express Contract 57

138. Priority Mail Express Contract 62

139. Priority Mail Express Contract 64

140. Priority Mail Express Contract 82

141. Priority Mail Express Contract 84

142. Priority Mail Express Contract 85

143. Priority Mail Express International, Priority Mail International, First-Class Package International Service & Commercial ePacket Contract 3

144. Priority Mail Express International, Priority Mail International, First-Class Package International Service & Commercial ePacket Contract 9

145. Priority Mail Express, Priority Mail & First-Class Package Service Contract 23

146. Priority Mail Express, Priority Mail & First-Class Package Service Contract 25

147. Priority Mail Express, Priority Mail & First-Class Package Service Contract 28

148. Priority Mail Express, Priority Mail & First-Class Package Service Contract 29

149. Priority Mail Express, Priority Mail & First-Class Package Service Contract 35

150. Priority Mail Express, Priority Mail & First-Class Package Service Contract 36

151. Priority Mail Express, Priority Mail & First-Class Package Service Contract 37

152. Priority Mail Express, Priority Mail & First-Class Package Service Contract 39

153. Priority Mail Express, Priority Mail & First-Class Package Service Contract 44

154. Priority Mail Express, Priority Mail & First-Class Package Service Contract 45

155. Priority Mail Express, Priority Mail & First-Class Package Service Contract 46

156. Priority Mail Express, Priority Mail & First-Class Package Service Contract 48

157. Priority Mail Express, Priority Mail & First-Class Package Service Contract 68

158. Priority Mail Express, Priority Mail & First-Class Package Service Contract 70

159. Priority Mail Express, Priority Mail & First-Class Package Service Contract 72

The above-referenced changes to the competitive product list are incorporated into “Appendix B to Subpart A of Part 3040—Competitive Product List.”

V. Ordering Paragraphs

It is ordered:

1. Part 3040 of title 39, Code of Federal Regulations, is amended as set forth below the signature of this document, effective 45 days after the date of publication of the document in the Federal Register without further action, unless adverse comments are received.

2. The Secretary shall arrange for publication of the document in the Federal Register.

3. Interested persons may submit adverse comments no later than 30 days from the date of the publication of this document in the Federal Register.

4. If adverse comments are received, the Secretary will publish a timely withdrawal of the document in the Federal Register.

By the Commission.
Erica A. Barker,
Secretary.

List of Subjects in 39 CFR Part 3040

Administrative practice and procedure, Postal Service.

For the reasons discussed in the preamble, the Postal Regulatory Commission amends chapter III of title 39 of the Code of Federal Regulations as follows:

PART 3040—PRODUCT LISTS AND THE MAIL CLASSIFICATION SCHEDULE

1. The authority citation for part 3040 continues to read as follows:

Authority: 39 U.S.C. 503; 3622; 3631; 3642; 3682.

2. Revise appendix A to subpart A of part 3040 to read as follows:

Appendix A to Subpart A of Part 3040—Market Dominant Product List

(An asterisk (*) indicates an organizational class or group, not a Postal Service product.)

FIRST-CLASS MAIL *

Single-Piece Letters/Postcards

Presorted Letters/Postcards

Flats

Outbound Single-Piece First-Class Mail International

Inbound Letter Post

USPS MARKETING MAIL (COMMERCIAL AND NONPROFIT) *

High Density and Saturation Letters

High Density and Saturation Flats/Parcels

Carrier Route

Letters

Flats

Parcels

Every Door Direct Mail—Retail

PERIODICALS *

In-County Periodicals

Outside County Periodicals

PACKAGE SERVICES *

Alaska Bypass Service

Bound Printed Matter Flats

Bound Printed Matter Parcels

Media Mail/Library Mail

SPECIAL SERVICES *

Ancillary Services

International Ancillary Services

Address Management Services

Caller Service

Credit Card Authentication

International Reply Coupon Service

International Business Reply Mail Service

Money Orders

Post Office Box Service

Stamp Fulfillment Services

NEGOTIATED SERVICE AGREEMENTS *

Domestic*

International*

Inbound Market Dominant Multi-Service Agreements with Foreign Postal Operators

NONPOSTAL SERVICES *

Alliances with the Private Sector to Defray Cost of Key Postal Functions

Philatelic Sales

MARKET TESTS *

Plus One

Commercial PO Box Redirect Service

Extended Mail Forwarding

3. Revise appendix B to subpart A of part 3040 to read as follows:

Appendix B to Subpart A of Part 3040—Competitive Product List

(An asterisk (*) indicates an organizational class or group, not a Postal Service product.)

DOMESTIC PRODUCTS *

Priority Mail Express

Priority Mail

Parcel Select

Parcel Return Service

First-Class Package Service

USPS Retail Ground

INTERNATIONAL PRODUCTS *

Outbound International Expedited Services

Inbound Parcel Post (at UPU rates)

Outbound Priority Mail International

International Priority Airmail (IPA)

International Surface Air Lift (ISAL)

International Direct Sacks—M-Bags

Outbound Single-Piece First-Class Package International Service

Inbound Letter Post Small Packets and Bulky Letters

NEGOTIATED SERVICE AGREEMENTS *

Domestic *

Priority Mail Express Contract 60

Priority Mail Express Contract 65

Priority Mail Express Contract 74

Priority Mail Express Contract 77

Priority Mail Express Contract 81

Priority Mail Express Contract 83

Priority Mail Express Contract 87

Priority Mail Express Contract 88

Priority Mail Express Contract 89

Priority Mail Express Contract 90

Parcel Return Service Contract 11

Parcel Return Service Contract 14

Parcel Return Service Contract 17

Parcel Return Service Contract 18

Priority Mail Contract 80

Priority Mail Contract 153

Priority Mail Contract 292

Priority Mail Contract 360

Priority Mail Contract 438

Priority Mail Contract 457

Priority Mail Contract 469

Priority Mail Contract 474

Priority Mail Contract 478

Priority Mail Contract 479

Priority Mail Contract 486

Priority Mail Contract 487

Priority Mail Contract 488

Priority Mail Contract 490

Priority Mail Contract 495

Priority Mail Contract 497

Priority Mail Contract 499

Priority Mail Contract 503

Priority Mail Contract 504

Priority Mail Contract 505

Priority Mail Contract 507

Priority Mail Contract 509

Priority Mail Contract 511

Priority Mail Contract 523

Priority Mail Contract 529

Priority Mail Contract 530

Priority Mail Contract 531

Priority Mail Contract 533

Priority Mail Contract 535

Priority Mail Contract 542

Priority Mail Contract 543

Priority Mail Contract 544

Priority Mail Contract 547

Priority Mail Contract 550

Priority Mail Contract 551

Priority Mail Contract 553

Priority Mail Contract 555

Priority Mail Contract 556

Priority Mail Contract 557

Priority Mail Contract 559

Priority Mail Contract 566

Priority Mail Contract 567

Priority Mail Contract 573

Priority Mail Contract 577

Priority Mail Contract 585

Priority Mail Contract 589

Priority Mail Contract 590

Priority Mail Contract 591

Priority Mail Contract 595

Priority Mail Contract 596

Priority Mail Contract 601

Priority Mail Contract 604

Priority Mail Contract 605

Priority Mail Contract 607

Priority Mail Contract 609

Priority Mail Contract 611

Priority Mail Contract 614

Priority Mail Contract 615

Priority Mail Contract 618

Priority Mail Contract 628

Priority Mail Contract 631

Priority Mail Contract 635

Priority Mail Contract 640

Priority Mail Contract 641

Priority Mail Contract 642

Priority Mail Contract 645

Priority Mail Contract 647

Priority Mail Contract 650

Priority Mail Contract 655

Priority Mail Contract 657

Priority Mail Contract 658

Priority Mail Contract 660

Priority Mail Contract 661

Priority Mail Contract 663

Priority Mail Contract 664

Priority Mail Contract 665

Priority Mail Contract 666

Priority Mail Contract 669

Priority Mail Contract 671

Priority Mail Contract 672

Priority Mail Contract 675

Priority Mail Contract 677

Priority Mail Contract 681

Priority Mail Contract 682

Priority Mail Contract 683

Priority Mail Contract 684

Priority Mail Contract 685

Priority Mail Contract 686

Priority Mail Contract 687

Priority Mail Contract 688

Priority Mail Contract 689

Priority Mail Contract 690

Priority Mail Contract 691

Priority Mail Contract 692

Priority Mail Contract 693

Priority Mail Contract 694

Priority Mail Contract 695

Priority Mail Contract 696

Priority Mail Contract 697

Priority Mail Contract 698

Priority Mail Contract 699

Priority Mail Contract 700

Priority Mail Contract 701

Priority Mail Contract 702

Priority Mail Contract 703

Priority Mail Contract 704

Priority Mail Contract 705

Priority Mail Contract 706

Priority Mail Contract 707

Priority Mail Contract 708

Priority Mail Contract 709

Priority Mail Contract 710

Priority Mail Contract 711

Priority Mail Contract 712

Priority Mail Contract 713

Priority Mail Contract 714

Priority Mail Contract 715

Priority Mail Contract 716

Priority Mail Contract 717

Priority Mail Contract 718

Priority Mail Contract 719

Priority Mail Contract 720

Priority Mail Express & Priority Mail Contract 48

Priority Mail Express & Priority Mail Contract 72

Priority Mail Express & Priority Mail Contract 73

Priority Mail Express & Priority Mail Contract 84

Priority Mail Express & Priority Mail Contract 85

Priority Mail Express & Priority Mail Contract 88

Priority Mail Express & Priority Mail Contract 89

Priority Mail Express & Priority Mail Contract 90

Priority Mail Express & Priority Mail Contract 92

Priority Mail Express & Priority Mail Contract 95

Priority Mail Express & Priority Mail Contract 96

Priority Mail Express & Priority Mail Contract 99

Priority Mail Express & Priority Mail Contract 101

Priority Mail Express & Priority Mail Contract 102

Priority Mail Express & Priority Mail Contract 103

Priority Mail Express & Priority Mail Contract 111

Priority Mail Express & Priority Mail Contract 114

Priority Mail Express & Priority Mail Contract 116

Priority Mail Express & Priority Mail Contract 118

Priority Mail Express & Priority Mail Contract 119

Priority Mail Express & Priority Mail Contract 120

Priority Mail Express & Priority Mail Contract 121

Priority Mail Express & Priority Mail Contract 122

Priority Mail Express & Priority Mail Contract 123

Priority Mail Express & Priority Mail Contract 124

Priority Mail Express & Priority Mail Contract 125

Parcel Select & Parcel Return Service Contract 7

Parcel Select & Parcel Return Service Contract 9

Parcel Select & Parcel Return Service Contract 10

Parcel Select & Parcel Return Service Contract 11

Parcel Select & Parcel Return Service Contract 13

Parcel Select Contract 34

Parcel Select Contract 35

Parcel Select Contract 37

Parcel Select Contract 38

Parcel Select Contract 39

Parcel Select Contract 40

Parcel Select Contract 41

Parcel Select Contract 42

Parcel Select Contract 43

Parcel Select Contract 44

Parcel Select Contract 45

Parcel Select Contract 46

Parcel Select Contract 47

Priority Mail—Non-Published Rates 1

Priority Mail—Non-Published Rates 2

First-Class Package Service Contract 87

First-Class Package Service Contract 94

First-Class Package Service Contract 99

First-Class Package Service Contract 100

First-Class Package Service Contract 103

First-Class Package Service Contract 104

First-Class Package Service Contract 106

First-Class Package Service Contract 107

First-Class Package Service Contract 108

First-Class Package Service Contract 109

First-Class Package Service Contract 110

First-Class Package Service Contract 112

First-Class Package Service Contract 114

First-Class Package Service Contract 115

First-Class Package Service Contract 116

First-Class Package Service Contract 117

Priority Mail Express, Priority Mail & First-Class Package Service Contract 38

Priority Mail Express, Priority Mail & First-Class Package Service Contract 40

Priority Mail Express, Priority Mail & First-Class Package Service Contract 43

Priority Mail Express, Priority Mail & First-Class Package Service Contract 47

Priority Mail Express, Priority Mail & First-Class Package Service Contract 51

Priority Mail Express, Priority Mail & First-Class Package Service Contract 52

Priority Mail Express, Priority Mail & First-Class Package Service Contract 53

Priority Mail Express, Priority Mail & First-Class Package Service Contract 55

Priority Mail Express, Priority Mail & First-Class Package Service Contract 57

Priority Mail Express, Priority Mail & First-Class Package Service Contract 58

Priority Mail Express, Priority Mail & First-Class Package Service Contract 62

Priority Mail Express, Priority Mail & First-Class Package Service Contract 63

Priority Mail Express, Priority Mail & First-Class Package Service Contract 66

Priority Mail Express, Priority Mail & First-Class Package Service Contract 67

Priority Mail Express, Priority Mail & First-Class Package Service Contract 69

Priority Mail Express, Priority Mail & First-Class Package Service Contract 71

Priority Mail Express, Priority Mail & First-Class Package Service Contract 73

Priority Mail Express, Priority Mail & First-Class Package Service Contract 74

Priority Mail Express, Priority Mail & First-Class Package Service Contract 75

Priority Mail Express, Priority Mail & First-Class Package Service Contract 76

Priority Mail & First-Class Package Service Contract 9

Priority Mail & First-Class Package Service Contract 26

Priority Mail & First-Class Package Service Contract 79

Priority Mail & First-Class Package Service Contract 83

Priority Mail & First-Class Package Service Contract 88

Priority Mail & First-Class Package Service Contract 94

Priority Mail & First-Class Package Service Contract 95

Priority Mail & First-Class Package Service Contract 97

Priority Mail & First-Class Package Service Contract 98

Priority Mail & First-Class Package Service Contract 99

Priority Mail & First-Class Package Service Contract 100

Priority Mail & First-Class Package Service Contract 102

Priority Mail & First-Class Package Service Contract 108

Priority Mail & First-Class Package Service Contract 109

Priority Mail & First-Class Package Service Contract 110

Priority Mail & First-Class Package Service Contract 113

Priority Mail & First-Class Package Service Contract 115

Priority Mail & First-Class Package Service Contract 116

Priority Mail & First-Class Package Service Contract 118

Priority Mail & First-Class Package Service Contract 121

Priority Mail & First-Class Package Service Contract 122

Priority Mail & First-Class Package Service Contract 124

Priority Mail & First-Class Package Service Contract 126

Priority Mail & First-Class Package Service Contract 127

Priority Mail & First-Class Package Service Contract 128

Priority Mail & First-Class Package Service Contract 129

Priority Mail & First-Class Package Service Contract 130

Priority Mail & First-Class Package Service Contract 132

Priority Mail & First-Class Package Service Contract 137

Priority Mail & First-Class Package Service Contract 139

Priority Mail & First-Class Package Service Contract 141

Priority Mail & First-Class Package Service Contract 143

Priority Mail & First-Class Package Service Contract 144

Priority Mail & First-Class Package Service Contract 146

Priority Mail & First-Class Package Service Contract 148

Priority Mail & First-Class Package Service Contract 150

Priority Mail & First-Class Package Service Contract 152

Priority Mail & First-Class Package Service Contract 153

Priority Mail & First-Class Package Service Contract 154

Priority Mail & First-Class Package Service Contract 155

Priority Mail & First-Class Package Service Contract 156

Priority Mail & First-Class Package Service Contract 163

Priority Mail & First-Class Package Service Contract 166

Priority Mail & First-Class Package Service Contract 169

Priority Mail & First-Class Package Service Contract 170

Priority Mail & First-Class Package Service Contract 172

Priority Mail & First-Class Package Service Contract 175

Priority Mail & First-Class Package Service Contract 176

Priority Mail & First-Class Package Service Contract 177

Priority Mail & First-Class Package Service Contract 178

Priority Mail & First-Class Package Service Contract 179

Priority Mail & First-Class Package Service Contract 180

Priority Mail & First-Class Package Service Contract 182

Priority Mail & First-Class Package Service Contract 183

Priority Mail & First-Class Package Service Contract 184

Priority Mail & First-Class Package Service Contract 185

Priority Mail & First-Class Package Service Contract 186

Priority Mail & First-Class Package Service Contract 187

Priority Mail & First-Class Package Service Contract 188

Priority Mail & First-Class Package Service Contract 189

Priority Mail & First-Class Package Service Contract 190

Priority Mail & First-Class Package Service Contract 191

Priority Mail & First-Class Package Service Contract 192

Priority Mail & First-Class Package Service Contract 193

Priority Mail & First-Class Package Service Contract 194

Priority Mail & First-Class Package Service Contract 195

Priority Mail & First-Class Package Service Contract 196

Priority Mail & First-Class Package Service Contract 197

Priority Mail & First-Class Package Service Contract 198

Priority Mail & First-Class Package Service Contract 199

Priority Mail & First-Class Package Service Contract 200

Priority Mail & First-Class Package Service Contract 201

Priority Mail & Parcel Select Contract 4

Priority Mail & Parcel Select Contract 5

Priority Mail Express, Priority Mail, First-Class Package Service & Parcel Select Contract 1

Priority Mail Express, Priority Mail, First-Class Package Service & Parcel Select Contract 2

Priority Mail Express, Priority Mail, First-Class Package Service & Parcel Select Contract 3

Priority Mail Express, Priority Mail, First-Class Package Service & Parcel Select Contract 5

Priority Mail Express, Priority Mail, First-Class Package Service & Parcel Select Contract 6

Priority Mail Express, Priority Mail, First-Class Package Service & Parcel Select Contract 7

Priority Mail Express, Priority Mail, First-Class Package Service & Parcel Select Contract 8

Priority Mail Express, Priority Mail, First-Class Package Service & Parcel Select Contract 9

Priority Mail, First-Class Package Service & Parcel Select Contract 1

Priority Mail, First-Class Package Service & Parcel Select Contract 2

Outbound International*

Global Expedited Package Services (GEPS) Contracts

GEPS 3

GEPS 5

GEPS 6

GEPS 7

GEPS 8

GEPS 9

GEPS 10

Global Bulk Economy (GBE) Contracts

Global Plus Contracts

Global Plus 1C

Global Plus 1D

Global Plus 1E

Global Plus 2C

Global Plus 3

Global Plus 4

Global Plus 5

Global Plus 6

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Global Expedited Package Services (GEPS)—Non-Published Rates 13

Global Expedited Package Services (GEPS)—Non-Published Rates 14

Global Expedited Package Services (GEPS)—Non-Published Rates 15

Priority Mail International Regional Rate Boxes—Non-Published Rates

Outbound Competitive International Merchandise Return Service Agreement with Royal Mail Group, Ltd.

Priority Mail International Regional Rate Boxes Contracts

Priority Mail International Regional Rate Boxes Contracts 1

Competitive International Merchandise Return Service Agreements with Foreign Postal Operators

Competitive International Merchandise Return Service Agreements with Foreign Postal Operators 1

Competitive International Merchandise Return Service Agreements with Foreign Postal Operators 2

Alternative Delivery Provider (ADP) Contracts

ADP 1

Alternative Delivery Provider Reseller (ADPR) Contracts

ADPR 1

Priority Mail Express International, Priority Mail International & First-Class Package International Service Contracts

Priority Mail Express International, Priority Mail International, First-Class Package International Service & Commercial ePacket Contracts

Priority Mail Express International, Priority Mail International, First-Class Package International Service & Commercial ePacket Contract 2

Priority Mail Express International, Priority Mail International, First-Class Package International Service & Commercial ePacket Contract 4

Priority Mail Express International, Priority Mail International, First-Class Package International Service & Commercial ePacket Contract 5

Priority Mail Express International, Priority Mail International, First-Class Package International Service & Commercial ePacket Contract 6

Priority Mail Express International, Priority Mail International, First-Class Package International Service & Commercial ePacket Contract 7

Priority Mail Express International, Priority Mail International, First-Class Package International Service & Commercial ePacket Contract 8

Priority Mail Express International, Priority Mail International, First-Class Package International Service & Commercial ePacket Contract 10

Priority Mail Express International, Priority Mail International & Commercial ePacket Contracts

International Priority Airmail, Commercial ePacket, Priority Mail Express International, Priority Mail International & First-Class Package International Service Contracts

International Priority Airmail, Commercial ePacket, Priority Mail Express International, Priority Mail International & First-Class Package International Service Contract 1

International Priority Airmail, Commercial ePacket, Priority Mail Express International, Priority Mail International & First-Class Package International Service Contract 2

International Priority Airmail, Commercial ePacket, Priority Mail Express International, Priority Mail International & First-Class Package International Service Contract 4

International Priority Airmail, Commercial ePacket, Priority Mail Express International, Priority Mail International & First-Class Package International Service Contract 5

International Priority Airmail, Commercial ePacket, Priority Mail Express International, Priority Mail International & First-Class Package International Service Contract 6

International Priority Airmail, Commercial ePacket, Priority Mail Express International, Priority Mail International & First-Class Package International Service Contract 8

International Priority Airmail, Commercial ePacket, Priority Mail Express International, Priority Mail International & First-Class Package International Service Contract 9

International Priority Airmail, Commercial ePacket, Priority Mail Express International, Priority Mail International & First-Class Package International Service with Reseller Contracts

International Priority Airmail, Commercial ePacket, Priority Mail Express International, Priority Mail International & First-Class Package International Service with Reseller Contract 1

International Priority Airmail, Commercial ePacket, Priority Mail Express International, Priority Mail International & First-Class Package International Service with Reseller Contract 2

International Priority Airmail, Commercial ePacket, Priority Mail Express International, Priority Mail International & First-Class Package International Service with Reseller Contract 3

International Priority Airmail, Commercial ePacket, Priority Mail Express International, Priority Mail International & First-Class Package International Service with Reseller Contract 4

International Priority Airmail, Commercial ePacket, Priority Mail Express International, Priority Mail International & First-Class Package International Service with Reseller Contract 5

International Priority Airmail Contracts

International Priority Airmail, International Surface Air Lift, Commercial ePacket, Priority Mail Express International, Priority Mail International & First-Class Package International Service Contracts

International Priority Airmail, International Surface Air Lift, Commercial ePacket, Priority Mail Express International, Priority Mail International & First-Class Package International Service Contract 1

International Priority Airmail, International Surface Air Lift, Commercial ePacket, Priority Mail Express International, Priority Mail International & First-Class Package International Service Contract 2

International Priority Airmail, International Surface Air Lift, Commercial ePacket, Priority Mail Express International, Priority Mail International & First-Class Package International Service with Reseller Contracts

International Priority Airmail, International Surface Air Lift, Commercial ePacket, Priority Mail Express International, Priority Mail International & First-Class Package International Service with Reseller Contract 1

International Priority Airmail, International Surface Air Lift, Commercial ePacket, Priority Mail Express International, Priority Mail International & First-Class Package International Service with Reseller Contract 2

Inbound International*

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Inbound Competitive Multi-Service Agreements with Foreign Postal Operators

Inbound Competitive Multi-Service Agreements with Foreign Postal Operators 1

SPECIAL SERVICES*

Address Enhancement Services

Greeting Cards, Gift Cards, and Stationery

International Ancillary Services

International Money Transfer Service—Outbound

International Money Transfer Service—Inbound

Premium Forwarding Service

Shipping and Mailing Supplies

Post Office Box Service

Competitive Ancillary Services

NONPOSTAL SERVICES*

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

MARKET TESTS*

[FR Doc. 2021-24391 Filed 11-9-21; 8:45 am]

BILLING CODE 7710-FW-P